DEPARTMENT OF TRANSPORTATION

Pipeline and Hazardous Materials Safety Administration

Office of Hazardous Materials Safety; Notice of Application for Special Permits

AGENCY: Pipeline and Hazardous Materials Safety Administration, DOT.

ACTION: List of Applications for Special Permits.

SUMMARY: In accordance with the procedures governing the application for, and the processing of, special permits from the Department of Transportation's Hazards Material Regulations (49 CFR Part 107, Subpart B), notice is hereby given that the Office of Hazardous Materials Safety has received the application described herein. Each mode of transportation for which a particular special permit is requested is indicated by a number in the “Nature of Application”portion of the table below as follows: 1—Motor vehicle, 2—Rail freight, 3—Cargo vessel, 4—Cargo aircraft only, 5—Passenger-carrying aircraft.

DATES: Comments must be received on or before February 24, 2006.

ADDRESSES: Record Center, Pipeline and Hazardous Materials Safety Administration, U.S. Department of Transportation, Washington, DC 20590.

Comments should refer to the application number and be submitted in triplicate. If Confirmation of receipt of comments is desired, include a self-addressed stamped postcard showing the special permit number.

FOR FURTHER INFORMATION CONTACT: Copies of the applications are available for inspection in the Records Center, Nassif Building, 400 7th Street, SW., Washington, DC, or at http://dms.dot.gov.

This notice of receipt of applications for special permits is published in accordance with Part 107 of the Federal hazardous materials transportation law (49 U.S.C 5117(b); 49 CFR 1.53(b)).

Issued in Washington, DC, on January 18, 2006.
R. Ryan Posten,
Chief, Special Permits Program, Office of Hazardous Materials, Special Permits & Approvals.

Application No. | Docket No. | Applicant | Regulation(s) affected | Nature of special permits thereof
New Special Permits
14296-N |  | Triple S Gas Tanks (PTY) Ltd dba GasCon Elsieriver, South Africa | 49 CFR 173.315 | To authorize the manufacture, marking, sale and use of certain non-DOT Specification steel portable tanks conforming with Section VII, Division 2 of the ASME Code for the transportation in commerce of Division 2.1 and 2.2 materials. (modes 1, 2, 3)
14297-N |  | Southeast Testing & Engineering Lawrenceville, GA | 49 CFR 173.201, 173.202, 173.203 | To authorize the transportation in commerce of certain hazardous material liquids in a UN5H woven plastic bag. (modes 1, 3, 4, 5)
14298-N |  | Air Products and Chemicals, Inc., Allentown, PA | 49 CFR 180.209(a) and (b) | To authorize the transportation in commerce of certain hazardous materials in DOT Specifications 3AX, 3AAX and 3T cylinders with a water capacity over 125 lbs that may be requalified every ten years rather than every five years. (modes 1, 2, 3)
14299-N |  | Great Lakes Chemical Corporation El Dorado, AR | 49 CFR 172.102(c) Special Provision B32 | To authorize the transportation in commerce of ethylene dibromide in MC 312 cargo tank motor vehicles, (mode 1)
14301-N |  | Triple S Gas Tanks (PTY) Ltd dba GasCon Elsieriver, South Africa | 49 CFR 178.274(b) and 178.276 (b)(1) | To authorize the manufacture, marking, sale and use of certain non-DOT specification steel portable tanks which are designed and constructed in accordance with Section VIII, Division 2 of the ASME Code for three transportation in commerce of Division 2.1 and 2.2 materials. (modes 1, 2, 3)
14303-N |  | Constellation Energy Lusby, MD | 49 CFR 173.403, 173.427 (b)(1), 173.465(c) and 173.465(d) | To authorize the one-time, one-way transportation in commerce of reactor vessel closure heads in alternative packaging. (mode 1)

[FR Doc. 06-700 Filed 1-24-06; 8:45am]

BILLING CODE 4909-60-M